DEPARTMENT OF TRANSPORTATION

Federal Aviation Administration

Notice of Availability of a Record of Decision (ROD) for the Proposed Honolulu High-Capacity Transit Corridor Project (HHCTCP) Segment at Honolulu International Airport (HNL), Honolulu, HI

AGENCY: Federal Aviation Administration (FAA), DOT.

ACTION: Notice of Availability of Record of Decision.

SUMMARY: The FAA is issuing this notice to advise the public that it has issued a ROD for the construction and operation of a 3-mile segment at HNL for the proposed Honolulu High-Capacity Transit Corridor Project on Oahu, Hawaii.

SUPPLEMENTARY INFORMATION: The FAA has completed and issued a ROD for a 3-mile segment of the proposed HHCTCP at HNL, Honolulu, Hawaii. The ROD is based on the evaluation in the Final Environmental Impact Statement (EIS) that was published in June 2010 by the Federal Transit Administration (FTA) and adopted by the FAA in July 2010. The proposed HHCTCP consists of 20 miles of an elevated guideway, transit stations, park-and-ride facilities, maintenance and storage facility, and other ancillary facilities to support the transit system on the Island of Oahu, Hawaii. The FAA was a Cooperating Agency on the project due to its special expertise on aviation matters and jurisdiction by law for projects on airport property at HNL. The FAA assisted FTA in the preparation of the Final EIS. A refined rail alignment at HNL was evaluated in the Final EIS and was determined to be consistent with FAA requirements. The FAA ROD only addresses the 3-mile portion of the transit rail project that is located on HNL property and subject to FAA approval. The FTA issued its ROD for the entire 20-mile project in January 2011.

The Project would provide a high-capacity rapid transit service in the highly congested east-west transportation corridor between Kapolei and Ala Moana Center. The Project is intended to provide faster, more reliable public transportation services than what can be achieved with buses operating in congested mixed traffic. The project will provide a multi-modal transportation connection at HNL and also improve transportation links within the travel corridor.

The ROD discusses alternatives considered by FAA in reaching its decision, summarizes the analysis used to evaluate the alternatives, and briefly summarizes the potential environmental consequences evaluated in the Final EIS. The ROD also identifies the FAA's environmentally preferred alternative.

Copies of the ROD are available for public examination during business hours at the following locations:

1. Federal Aviation Administration, Honolulu Airports District Office, 300 Ala Moana Boulevard, Room 7-128, Honolulu, HI 96813.

2. Federal Aviation Administration, Airports Division, Room 3012, 15000 Aviation Boulevard, Hawthorne, CA 90261.

3. Federal Aviation Administration, Office of the Associate Administrator for Airports, Planning and Environmental Division, Room 615, 800 Independence Avenue SW., Washington DC 20591.

4. State of Hawaii, Department of Transportation, Airports Division, 400 Rodgers Boulevard, Suite 700, Honolulu, HI 96819.

FOR FURTHER INFORMATION CONTACT: Mr. Gordon Wong, Environmental Specialist, Federal Aviation Administration, Honolulu Airports District Office, 300 Ala Moana Boulevard, Honolulu, HI 96813. Telephone: (808) 541-1232.

Issued in Hawthorne, California, on May 12, 2011.
Debbie Roth,
Acting Manager, Airports Division, Western-Pacific Region, AWP-600.

[FR Doc. 2011-12983 Filed 5-25-11; 8:45 am]

BILLING CODE 4910-13-P